DEPARTMENT OF ENERGY

Federal Energy Regulatory Commission

Combined Notice of Filings

Take notice that the Commission has received the following Natural Gas Pipeline Rate and Refund Report filings:

Filings Instituting Proceedings

Docket Numbers: CP24-201-000.

Applicants: CenterPoint Energy Resources Corp., Delta Utilities S. LA, LLC, Delta Utilities NO. LA, LLC.

Description: CenterPoint Energy Resources Corp. et al. submits Application for Abandonment of the service area determination.

Filed Date: 4/19/24.

Accession Number: 20240419-5287.

Comment Date: 5 p.m. ET 5/10/24.

Docket Numbers: RP24-683-000.

Applicants: Stanchion Energy, LLC, Stanchion Gas Marketing, LLC.

Description: Joint Petition for Limited Waiver of Capacity Release Regulations, et al. of Stanchion Energy, LLC, et al.

Filed Date: 4/23/24.

Accession Number: 20240423-5209.

Comment Date: 5 p.m. ET 5/6/24.

Docket Numbers: RP24-684-000.

Applicants: Northern Border Pipeline Company.

Description: Compliance filing: 2024 Company Use Gas Adjustment Annual Report to be effective N/A.

Filed Date: 4/24/24.

Accession Number: 20240424-5033.

Comment Date: 5 p.m. ET 5/6/24.

Docket Numbers: RP24-685-000.

Applicants: Northern Border Pipeline Company.

Description: Compliance filing: 2024 Operational Purchases and Sales Report to be effective N/A.

Filed Date: 4/24/24.

Accession Number: 20240424-5035.

Comment Date: 5 p.m. ET 5/6/24.

Docket Numbers: RP24-686-000.

Applicants: Midcontinent Express Pipeline LLC.

Description: 4(d) Rate Filing: Fuel Tracker Filing 4/24/24 to be effective 6/1/2024.

Filed Date: 4/24/24.

Accession Number: 20240424-5041.

Comment Date: 5 p.m. ET 5/6/24.

Docket Numbers: RP24-687-000.

Applicants: ANR Storage Company.

Description: Compliance filing: 2024 Operational Purchases and Sales Report to be effective N/A.

Filed Date: 4/24/24.

Accession Number: 20240424-5051.

Comment Date: 5 p.m. ET 5/6/24.

Docket Numbers: RP24-688-000.

Applicants: Bison Pipeline LLC.

Description: Compliance filing: 2024 Operational Purchases and Sales Report to be effective N/A.

Filed Date: 4/24/24.

Accession Number: 20240424-5052.

Comment Date: 5 p.m. ET 5/6/24.

Docket Numbers: RP24-689-000.

Applicants: Blue Lake Gas Storage Company.

Description: Compliance filing: 2024 Operational Purchases and Sales Report to be effective N/A.

Filed Date: 4/24/24.

Accession Number: 20240424-5053.

Comment Date: 5 p.m. ET 5/6/24.

Docket Numbers: RP24-690-000.

Applicants: Great Lakes Gas Transmission Limited Partnership.

Description: Compliance filing: 2024 Operational Purchases and Sales Report to be effective N/A.

Filed Date: 4/24/24.

Accession Number: 20240424-5054.

Comment Date: 5 p.m. ET 5/6/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-514-002.

Applicants: Great Basin Gas Transmission Company.

Description: Compliance filing: Compliance Filing 2024 General Rate Case to be effective 4/6/2024.

Filed Date: 4/23/24.

Accession Number: 20240423-5157.

Comment Date: 5 p.m. ET 5/6/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 24, 2024.
Debbie-Anne A. Reese,
Acting Secretary.

[FR Doc. 2024-09284 Filed 4-29-24; 8:45 am]

BILLING CODE 6717-01-P